DEPARTMENT OF ENERGY

Federal Energy Regulatory Commission

Combined Notice of Filings

Take notice that the Commission has received the following Natural Gas Pipeline Rate and Refund Report filings:

Filings Instituting Proceedings

Docket Numbers: RP17-896-000.

Applicants: Northern Natural Gas Company.

Description: Northern Natural Gas Company submits tariff filing per 154.204: 20170711 Remove Ft. Buford to be effective 8/11/2017.

Filed Date: 07/11/2017.

Accession Number: 20170711-5099.

Comment Date: 5:00 p.m. Eastern Time on Monday, July 24, 2017.

Docket Numbers: RP17-897-000.

Applicants: Algonquin Gas Transmission, LLC.

Description: Algonquin Gas Transmission, LLC submits tariff filing per 154.204: Negotiated Rate and Non-Conforming—Narragansett—510985 to be effective 7/17/2017.

Filed Date: 07/12/2017.

Accession Number: 20170712-5196.

Comment Date: 5:00 p.m. Eastern Time on Monday, July 24, 2017.

Docket Numbers: RP17-899-000.

Applicants: OXY USA Inc., Occidental Energy Marketing, Inc., Hess Corporation.

Description: Joint Petition for Temporary Waiver of Capacity Release of OXY USA Inc., et al.

Filed Date: 07/12/2017.

Accession Number: 20170712-5203.

Comment Date: 5:00 p.m. Eastern Time on Wednesday, July 19, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2017.
Nathaniel J. Davis, Sr.
Deputy Secretary

[FR Doc. 2017-15424 Filed 7-21-17; 8:45 am]

BILLING CODE 6717-01-P